SECURITIES AND EXCHANGE COMMISSION

[File No. 500-1]

In the Matter of: Machine Technology, Inc., Magnum Sports & Entertainment, Inc., Management of Environmental Solutions & Technology Corp., and Mariculture Systems, Inc.; Order of Suspension of Trading

Date: March 5, 2008.

It appears to the Securities and Exchange Commission that there is a lack of current and accurate information concerning the securities of Machine Technology, Inc. because it has not filed any periodic reports since it filed a Form 10-Q for the period ended May 31, 1994.

It appears to the Securities and Exchange Commission that there is a lack of current and accurate information concerning the securities of Magnum Sports & Entertainment, Inc. because it has not filed any periodic reports since it filed a Form 10-QSB for the period ended March 31, 2002.

It appears to the Securities and Exchange Commission that there is a lack of current and accurate information concerning the securities of Management of Environmental Solutions & Technology Corp. because it has not filed any periodic reports since it filed a Form 10-QSB for the period ended June 30, 2002.

It appears to the Securities and Exchange Commission that there is a lack of current and accurate information concerning the securities of Mariculture Systems, Inc. because it has not filed any period reports since it filed a Form 10-QSB for the period ended September 30, 2002.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on March 5, 2008, through 11:59 p.m. EDT on March 18, 2008.

By the Commission.

Nancy M. Morris,
Secretary.

[FR Doc. 08-987 Filed 3-05-08; 9:45 am]

BILLING CODE 8011-01-P